DEPARTMENT OF JUSTICE

Notice of Lodging of Settlement Agreement Under the Comprehensive Environmental Response, Compensation, and Liability Act (CERCLA)

Notice is hereby given that on February 22, 2008, a proposed Settlement Agreement was filed with the United States Bankruptcy Court for the Southern District of Texas in In re ASARCO LLC, et al., No. 05-21207 (Bankr. S.D. Tex.). The Settlement Agreement addresses the Barker Hughesville (Block P) Site in Cascade and Judith Basin Counties, Montana. Under the proposed settlement, the United States will have an allowed general unsecured claim of $1 million and the State of Montana will have an allowed general unsecured claim of $7.1 million.

For thirty (30) days after the date of this publication, the Department of Justice will receive comments relating to the Settlement Agreement. Comments should be addressed to the Assistant Attorney General, Environment and Natural Resources Division, and either e-mailed to pubcomment-ees.enrd@usdoj.gov or mailed to Environmental Enforcement Section, U.S. Department of Justice, P.O. Box. 7611, Washington, DC 20044-7611. In either case, comments should refer to In re Asarco LLC, No. 05-21207 (Bankr. S.D. Tex.), D.J. Ref. No. 90-11-3-08633. Commenters may request an opportunity for a public meeting in the affected area, in accordance with Section 7003(d) of RCRA, 42 U.S.C. 6973(d).

The proposed Settlement Agreement may be examined at the office of the United States Attorney for the Southern District of Texas, 800 North Shoreline Blvd, #500, Corpus Christi, TX 78476-2001, and at the Region 7 office of the United States Environmental Protection Agency, 901 North Fifth Street, Kansas City, KS 66101. During the comment period, the proposed Settlement Agreement may also be examined on the following Department of Justice website: http://www.usdoj.gov/enrd/Consent_Decrees.html. A copy of the proposed Settlement Agreement may also be obtained by mail from the Department of Justice Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy of the Settlement Agreement from the Consent Decree Library, please enclose a check in the amount of $3.25 (25 cents per page reproduction costs) payable to the United States Treasury or, if by e-mail or fax, forward a check in that amount to the Consent Decree Library at the stated address.

Robert E. Maher, Jr.,
Assistant Section Chief, Environmental Enforcement Section, Environment and Natural Resources Division.

[FR Doc. E8-5350 Filed 3-17-08; 8:45 am]

BILLING CODE 4410-15-P